DEPARTMENT OF EDUCATION

[Docket No.: ED-2017-ICCD-0044]

Agency Information Collection Activities; Submission to the Office of Management and Budget for Review and Approval; Comment Request; 2018-2019 Free Application for Federal Student Aid (FAFSA)

AGENCY: Federal Student Aid (FSA), Department of Education (ED).

ACTION: Notice.

SUMMARY: In accordance with the Paperwork Reduction Act of 1995, ED is proposing a revision of the existing information collection.

DATES: Interested persons are invited to submit comments on or before August 14, 2017.

ADDRESSES: To access and review all the documents related to the information collection listed in this notice, please use http://www.regulations.gov by searching the Docket ID number ED-2017-ICCD-0044. Comments submitted in response to this notice should be submitted electronically through the Federal eRulemaking Portal at http://www.regulations.gov by selecting the Docket ID number or via postal mail, commercial delivery, or hand delivery. Please not that comments submitted by fax or email and those submitted after the comment period will not be accepted. Written requests for information or comments submitted by postal mail or delivery should be addressed to the Director of the Information Collection Clearance, U.S. Department of Education, 400 Maryland Avenue SW., LBJ, Room 224-84, Washington, DC 20202-4537.

FOR FURTHER INFORMATION CONTACT: For specific questions related to collection activities, please contact the Applicant Products Team at StudentExperienceGroup@ed.gov.

SUPPLEMENTARY INFORMATION: The Department of Education (ED), in accordance with the Paperwork Reduction Act of 1995 (PRA) (44 U.S.C. 3506(c)(2)(A)), provides the general public and Federal agencies with an opportunity to comment on proposed, revised and continuing collections of information. This helps ED assess the impact of its information collection requirements and minimize the public's reporting burden. It also helps the public understand ED's information collection requirements and provide the requested data in the desired format. ED is soliciting comments on the proposed information collection request (ICR) that is described below. ED is especially interested in public comments addressing the following issues: (1) Is this collection necessary to the proper function of ED; (2) will this information be processed and used in a timely manner; (3) is the estimate of burden accurate; (4) how might ED enhance the quality, utility, and clarity of the information to be collected; and (5) how might ED minimize the burden of this collection on the respondents, including through the use of information technology. Please note that written comments received in response to this notice will be considered public records.

Title of the Collection: 2018-2019 Free Application for Federal Student Aid.

OMB Control Number: 1845-0001.

Type of Review: A revision of an existing information collection.

Respondents/Affected Public: Individuals.

Total Estimated Number of Annual Responses: 39,226,771.

Total Estimated Number of Annual Burden Hours: 25,826,753.

Abstract: Section 483, of the Higher Education Act of 1965, as amended (HEA), mandates that the Secretary of Education “. . . shall produce, distribute, and process free of charge common financial reporting forms as described in this subsection to be used for application and reapplication to determine the need and eligibility of a student for financial assistance . . .”.

The determination of need and eligibility are for the following Title IV, HEA, federal student financial assistance programs: The Federal Pell Grant Program; the Campus-Based programs (Federal Supplemental Educational Opportunity Grant (FSEOG), Federal Work-Study (FWS), and the Federal Perkins Loan Program); the William D. Ford Federal Direct Loan Program; the Teacher Education Assistance for College and Higher Education (TEACH) Grant; and the Iraq and Afghanistan Service Grant.

Federal Student Aid (FSA), an office of the U.S. Department of Education, subsequently developed an application process to collect and process the data necessary to determine a student's eligibility to receive Title IV, HEA program assistance. The application process involves an applicant's submission of the Free Application for Federal Student Aid (FAFSA®). After submission and processing of the FAFSA, an applicant receives a Student Aid Report (SAR), which is a summary of the processed data they submitted on the FAFSA. The applicant reviews the SAR, and, if necessary, will make corrections or updates to their submitted FAFSA data. Institutions of higher education listed by the applicant on the FAFSA also receive a summary of processed data submitted on the FAFSA which is called the Institutional Student Information Record (ISIR).

ED and FSA seek OMB approval of all application components as a single “collection of information”. The aggregate burden will be accounted for under OMB Control Number 1845-0001. The specific application components, descriptions, and submission methods for each are listed in Table 1.

Table 1—Federal Student Aid Application Components
Component | Description | Submission method
Initial Submission of FAFSA
FAFSA on the Web (FOTW) | Online FAFSA that offers applicants a customized experience | Submitted by the applicant via fafsa.gov.
FOTW-Renewal | Online FAFSA for applicants who have previously completed the FAFSA
FOTW-EZ | Online FAFSA for applicants who qualify for the Simplified Needs Test (SNT) or Automatic Zero (Auto Zero) needs analysis formulas
FOTW-EZ Renewal | Online FAFSA for applicants who have previously completed the FAFSA and who qualify for SNT or Auto Zero needs analysis formulas
FAA Access | Online tool that a financial aid administrator (FAA) utilizes to submit a FAFSA | Submitted through faaaccess.ed.gov by an FAA on behalf of an applicant.
FAA Access—Renewal | Online tool that an FAA can utilize to submit a Renewal FAFSA
FAA Access—EZ | Online tool that an FAA can utilize to submit a FAFSA for applicants who qualify for the SNT or Auto Zero needs analysis formulas
FAA Access—EZ Renewal | Online tool that an FAA can utilize to submit a FAFSA for applicants who have previously completed the FAFSA and who qualify for the SNT or Auto Zero needs analysis formulas
Electronic Other | This is a submission done by an FAA, on behalf of the applicant, using the Electronic Data Exchange (EDE) | The FAA may be using their mainframe computer or software to facilitate the EDE process.
Printed FAFSA | The printed version of the PDF FAFSA for applicants who are unable to access the Internet or complete the form using FOTW | Mailed by the applicant.
Correcting Submitted FAFSA Information and Reviewing FAFSA Information
FOTW—Corrections | Any applicant who has a Federal Student Aid ID (FSA ID)—regardless of how they originally applied—may make corrections sing FOTW Corrections | Submitted by the applicant via fafsa.gov.
Electronic Other—Corrections | With the applicant's permission, corrections can be made by an FAA using the EDE | The FAA may be using their mainframe computer or software to facilitate the EDE process.
Paper SAR—This is a SAR and an option for corrections | The full paper summary that is mailed to paper applicants who did not provide an email address and to applicants whose records were rejected due to critical errors during processing. Applicants can write corrections directly on the paper SAR and mail for processing | Mailed by the applicant.
FAA Access—Corrections | An institution can use FAA Access to correct the FAFSA | Submitted through faaaccess.ed.gov by an FAA on behalf of an applicant.
Internal Department Corrections | The Department will submit an applicant's record for system-generated corrections | There is no burden to the applicants under this correction type as these are system-based corrections.
FSAIC Corrections | Any applicant, with their Data Release Number (DRN), can change the postsecondary institutions listed on their FAFSA or change their address by calling FSAIC | These changes are made directly in the CPS system by an FSAIC representative.
SAR Electronic (eSAR) | The eSAR is an online version of the SAR that is available on FOTW to all applicants with an FSA ID. Notification for the eSAR are sent to students who applied electronically or by paper and provided an email address. These notifications are sent by email and include a secure hyperlink that takes the user to the FOTW site | Cannot be submitted for processing.

This information collection also documents an estimate of the annual public burden as it relates to the application process for federal student aid. The Applicant Burden Model (ABM) measures applicant burden through an assessment of the activities each applicant conducts in conjunction with other applicant characteristics and, in terms of burden, the average applicant's experience. Key determinants of the ABM include:

• The total number of applicants that will potentially apply for federal student aid;

• How the applicant chooses to complete and submit the FAFSA (e.g., by paper or electronically via FOTW®);

• How the applicant choose to submit any corrections and/or updates (e.g., the paper SAR or electronically via FOTW Corrections);

• The type of SAR document the applicant receives (eSAR, SAR acknowledgment, or paper SAR);

• The formula applied to determine the applicant's expected family contribution (EFC) (full need analysis formula, Simplified Needs Test or Automatic Zero); and

• The average amount of time involved in preparing to complete the application.

The ABM is largely driven by the number of potential applicants for the application cycle. The total application projection for 2018-2019 is based upon two factors—estimating the growth rate of the total enrollment into post-secondary education and applying the growth rate to the FAFSA submissions. The ABM is also based on the application options available to students and parents. ED accounts for each application component based on web trending tools, survey information and other ED data sources.

For 2018-2019, ED is reporting a net burden increase of 5,790,741 hours.

Dated: July 10, 2017.
Kate Mullan,
Acting Director, Information Collection Clearance Division, Office of the Chief Privacy Officer, Office of Management.

[FR Doc. 2017-14676 Filed 7-12-17; 8:45 am]

BILLING CODE 4000-01-P